DEPARTMENT OF VETERANS AFFAIRS

[OMB Control No. 2900-0154]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each revision of a currently approved collection and allow 60 days for public comment in response to the notice. This notice solicits comments for information needed to determine veterans, servicepersons and members of the selected reserve eligibility for education benefits.

DATES: Written comments and recommendations on the proposed collection of information should be received on or before November 3, 2003.

ADDRESSES: Submit written comments on the collection of information to Nancy J. Kessinger, Veterans Benefits Administration (20S52), Department of Veterans Affairs, 810 Vermont Avenue, NW., Washington, DC 20420 or e-mail: irmnkess@vba.va.gov. Please refer to “OMB Control No. 2900-0154” in any correspondence.

FOR FURTHER INFORMATION CONTACT: Nancy J. Kessinger at (202) 273-7079 or FAX (202) 275-5947.

SUPPLEMENTARY INFORMATION: Under the PRA of 1995 (Pub. L. 104-13; 44 U.S.C. 3501-3520), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Application for VA Education Benefits, VA Form 22-1990.

OMB Control Number: 2900-0154.

Type of Review: Revision of a currently approved collection.

Abstract: Veterans, servicepersons and members of the selected reserve must complete VA Form 22-1990 to apply for education benefits under chapters 30 and 32 of title 38 U.S.C, chapter 1606 of title 10 U.S.C., and section 903 of Public Law 96-342. The information requested on VA Form 22-1990 is used to determine the applicant's eligibility to education benefits. The form was modified to enact the transfer of chapter 30 benefits to dependents. Under Public Law 107-107, a veteran's spouse or child can apply for chapter 30 benefits that the veteran has transferred to the spouse or child.

Affected Public: Individuals or households.

Estimated Annual Burden: 72,000 hours.

Estimated Average Burden Per Respondent: 54 minutes.

Frequency of Response: Only once.

Estimated Number of Respondents: 80,000.

Dated: August 21, 2003.
By direction of the Secretary:
Denise McLamb,
Program Analyst, Records Management Service.

[FR Doc. 03-22199 Filed 8-29-03; 8:45 am]

BILLING CODE 8320-01-P